OFFICE OF PERSONNEL MANAGEMENT

Excepted Service

AGENCY: Office of Personnel Management (OPM).

ACTION: Notice.

SUMMARY: This gives notice of OPM decisions granting authority to make appointments under Schedules A, B, and C in the excepted service as required by 5 CFR 6.6 and 213.103.

FOR FURTHER INFORMATION CONTACT: David Guilford, Center for Leadership and Executive Resources Policy, Division for Strategic Human Resources Policy, 202-606-1391.

SUPPLEMENTARY INFORMATION: Appearing in the listing below are the individual authorities established under Schedules A, B, and C between January 1, 2006, and January 31, 2006. Future notices will be published on the fourth Tuesday of each month, or as soon as possible thereafter. A consolidated listing of all authorities as of June 30 is published each year.

Schedule A

No Schedule A appointments were approved for January 2006.

Schedule B

No Schedule B appointments were approved for January 2006.

Schedule C

The following Schedule C appointments were approved during January 2006:

Section 213.3303 Executive Office of the President

Office of National Drug Control Policy

QQGS60086 Staff Assistant to the Counselor to the Deputy Director. Effective January 06, 2006.

QQGS60084 Public Affairs Specialist to the Chief of Staff. Effective January 17, 2006.

Office of the United States Trade Representative

TNGS00020 Confidential Assistant to the Deputy United States Trade Representative. Effective January 18, 2006.

Section 213.3304 Department of State

DSGS61009 Senior Advisor to the Assistant Secretary for International Organizational Affairs. Effective January 03, 2006.

DSGS61023 Senior Advisor to the Assistant Secretary for Near Eastern and South Asian Affairs. Effective January 04, 2006.

DSGS61025 Public Affairs Specialist to the Human Immunodeficiency Virus/Acquired Immunodeficiency Syndrome Coordinator. Effective January 04, 2006.

DSGS61026 Special Assistant to the Under Secretary for Public Diplomacy and Public Affairs. Effective January 04, 2006.

DSGS61029 Protocol Officer to the Deputy Chief of Protocol. Effective January 06, 2006.

DSGS61030 Staff Assistant to the Assistant Secretary for International Organizational Affairs. Effective January 17, 2006.

DSGS61031 Senior Advisor to the Under Secretary for Economic Business and Agricricultural Affairs. Effective January 17, 2006.

DSGS61028 Program Officer (Foreign Press Officer) to the Assistant Secretary for Public Affairs. Effective January 25, 2006.

DSGS61033 Public Affairs Specialist to the Principal Deputy Assistant Secretary. Effective January 25, 2006.

DSGS61024 Special Assistant to the Principal Deputy Assistant Secretary. Effective January 27, 2006.

Section 213.3305 Department of the Treasury

DYGS00464 Special Assistant to the Assistant Secretary (Deputy Under Secretary) Legislative Affairs. Effective January 20, 2006.

DYGS00465 Special Assistant to the Assistant Secretary (Management) and Chief Financial Officer. Effective January 20, 2006.

DYGS00375 Director of Legislative and Governmental Affairs to the Director of the Mint. Effective January 26, 2006.

Section 213.3306 Office of the Secretary of Defense

DDGS16916 Research Assistant to the Deputy Assistant Secretary of Defense (Strategic Communications Planning). Effective January 04, 2006.

DDGS16915 Special Assistant to the Principal Deputy Assistant Secretary of Defense (Legal Affairs). Effective January 06, 2006.

DDGS16917 Confidential Assistant to the Director of Defense Research and Engineering. Effective January 24, 2006.

DDGS16913 Defense Fellow to the Special Assistant to the Secretary of Defense for White House Liaison. Effective January 31, 2006.

Section 213.3307 Department of the Army

DWGS00064 Personal and Confidential Assistant to the Assistant Secretary of the Army (Financial Management and Comptroller). Effective January 17, 2006.

DWGS00067 Confidential Assistant to the Deputy Under Secretary of the Army. Effective January 17, 2006.

DWGS60019 Business Transformation Initiatives Analyst to the Special Assistant to the Secretary of the Army for Business Transformation Initiatives. Effective January 24, 2006.

Section 213.3310 Department of Justice

DJGS00154 Speechwriter to the Director, Office of Public Affairs. Effective January 24, 2006.

DJGS00033 Counsel to the Assistant Attorney General, Anti-trust Division. Effective January 25, 2006.

DJGS00125 Special Assistant to the Assistant Attorney General, Anti-trust Division. Effective January 25, 2006.

DJGS00143 Counsel to the Assistant Attorney General, Criminal Division. Effective January 27, 2006.

Section 213.3311 Department of Homeland Security

DMGS00464 Confidential Assistant Briefing Book to the Executive Secretary. Effective January 10, 2006.

DMGS00454 Special Advisor for Refugee and Asylum Affairs to the Assistant Secretary for Policy. Effective January 17, 2006.

DMGS00459 Assistant Director of Legislative Affairs for Information Analysis and Operations to the Assistant Secretary for Legislative Affairs. Effective January 17, 2006.

DMGS00460 Associate Director of Strategic Communications for Policy to the Director of Strategic Communications. Effective January 17, 2006.

DMGS00461 Special Assistant to the Executive Secretary and Deputy Executive Secretary. Effective January 17, 2006

DMGS00463 Correspondence Analyst to the Executive Secretary. Effective January 17, 2006.

DMGS00465 Special Assistant to the Under Secretary for Preparedness. Effective January 17, 2006.

DMGS00466 Senior Legislative Assistant to the Assistant Secretary for Legislative Affairs. Effective January 17, 2006.

DMGS00462 Director of Information Integration and Special Assistant to the Chief of Staff. Effective January 18, 2006.

DMGS00470 Chief of Staff, Office of Grants and Training to the Executive Director, Office of Grants and Training. Effective January 20, 2006.

DMGS00467 Advisor to the Director to the White House Liaison. Effective January 25, 2006.

DMGS00471 Special Assistant to the Under Secretary for Preparedness. Effective January 27, 2006.

DMGS00472 Correspondence Analyst to the Executive Secretary. Effective January 27, 2006.

DMGS00476 Legislative Assistant to the Assistant Secretary for Legislative Affairs. Effective January 31, 2006.

Section 213.3312 Department of the Interior

DIGS01053 Chief of Staff to the Assistant Secretary for Policy Management and Budget. Effective January 06, 2006.

DIGS01054 Press Secretary to the Director, Office of Communications. Effective January 10, 2006.

DIGS01055 Deputy White House Liaison to the White House Liaison. Effective January 17, 2006.

DIGS01057 Special Assistant to the Director, External and Intergovernmental Affairs. Effective January 17, 2006.

Section 213.3313 Department of Agriculture

DAGS00837 Confidential Assistant to the Under Secretary for Rural Development. Effective January 06, 2006.

DAGS00838 Confidential Assistant to the Administrator to the Deputy Under Secretary for Marketing and Regulatory Programs. Effective January 06, 2006.

DAGS00841 Confidential Assistant to the Administrator, Food and Nutrition Service. Effective January 30, 2006.

Section 213.3314 Department of Commerce

DCGS00413 Confidential Assistant to the Director, Office of White House Liaison. Effective January 03, 2006.

DCGS00205 Special Assistant to the Chief of Staff. Effective January 06, 2006.

DCGS00367 Confidential Assistant to the Director, Office of Legislative Affairs. Effective January 06, 2006.

DCGS00418 Confidential Assistant to the Associate Director for Communications. Effective January 06, 2006.

DCGS00450 Senior Policy Advisor to the Director. Effective January 06, 2006.

DCGS00572 Confidential Assistant to the Director, Advocacy Center. Effective January 06, 2006.

DCGS00637 Special Assistant to the Director, Advocacy Center. Effective January 06, 2006.

DCGS00355 Confidential Assistant to the Assistant Secretary for Market Access and Compliance. Effective January 20, 2006.

DCGS00630 Executive Director to the National Director, Minority Business Development Agency. Effective January 20, 2006.

DCGS00645 Senior Advisor to the Assistant Secretary for Export Enforcement. Effective January 20, 2006.

Section 213.3315 Department of Labor

DLGS60066 Special Assistant to the Deputy Assistant Secretary for Federal Contract Compliance. Effective January 06, 2006.

DLGS60247 Intergovernmental Officer to the Assistant Secretary for Congressional and Intergovernmental Affairs. Effective January 06, 2006.

DLGS60003 Special Assistant to the Director of Operations. Effective January 10, 2006.

DLGS60197 Legislative Assistant to the Assistant Secretary for Congressional and Intergovernmental Affairs. Effective January 17, 2006.

DLGS60041 Staff Assistant to the Director of Operations. Effective January 18, 2006.

DLGS60017 Senior Legislative Officer to the Assistant Secretary for Congressional and Intergovernmental Affairs. Effective January 24, 2006.

DLGS60141 Special Assistant to the Deputy Assistant Secretary for Labor-Management Programs. Effective January 24, 2006.

DLGS60211 Special Assistant to the Director of Scheduling. Effective January 24, 2006.

Section 213.3316 Department of Health and Human Services

DHGS60028 Special Assistant to the Chief of Staff. Effective January 03, 2006.

Section 213.3317 Department of Education

DBGS00494 Special Assistant to the Assistant Secretary for Postsecondary Education. Effective January 06, 2006.

DBGS00496 Special Assistant to the Assistant Secretary for Management. Effective January 06, 2006.

DBGS00499 Director, Intergovernmental Affairs to the Deputy Assistant Secretary for External Affairs and Outreach Services. Effective January 06, 2006.

DBGS00493 Confidential Assistant to the Chief of Staff. Effective January 18, 2006.

DBGS00500 Confidential Assistant to the Chief of Staff. Effective January 18, 2006.

DBGS00502 Deputy Assistant Secretary for Policy to the Assistant Secretary for Planning, Evaluation, and Policy Development. Effective January 18, 2006.

DBGS00495 Confidential Assistant to the Chief of Staff. Effective January 24, 2006.

DBGS00497 Deputy Assistant Secretary for Policy and State Technical Assistance to the Assistant Secretary for Elementary and Secondary Education. Effective January 24, 2006.

DBGS00501 Special Assistant to the Deputy Secretary of Education. Effective January 24, 2006.

DBGS00503 Deputy Secretary's Regional Representative, Region 1 to the Director, Regional Services. Effective January 25, 2006.

DBGS00504 Confidential Assistant to the Secretary. Effective January 26, 2006.

Section 213.3318 Environmental Protection Agency

EPGS05006 Speech Writer to the Deputy Associate Administrator. Effective January 06, 2006.

EPGS05005 Deputy to the Press Secretary to the Deputy Associate Administrator. Effective January 27, 2006.

EPGS06000 Senior Policy Advisor to the Regional Administrator. Effective January 30, 2006.

Section 213.3325 United States Tax Court

JCGS60054 Secretary (Confidential Assistant) to the Chief Judge. Effective January 09, 2006.

Section 213.3328 Broadcasting Board of Governors

IBGS00022 Communications Coordinator to the Chairman, Broadcasting Board of Governors. Effective January 20, 2006.

Section 213.3330 Securities and Exchange Commission

SEOT60012 Investor Advocate to the Chairman. Effective January 27, 2006.

Section 213.3331 Department of Energy

DEGS00504 Special Assistant to the Director, Public Affairs. Effective January 12, 2006.

DEGS00505 Speechwriter to the Director, Public Affairs. Effective January 19, 2006.

DEGS00508 Special Assistant to the Assistant Secretary for Congressional and Intergovernmental Affairs. Effective January 19, 2006.

DEGS00502 Senior Advisor for Intergovernmental and External Affairs to the Deputy Assistant Secretary for Intergovernmental and External Affairs. Effective January 25, 2006.

DEGS00506 Special Program Assistant to the Assistant Secretary of Energy (Environmental Management). Effective January 25, 2006.

DEGS00509 Staff Assistant to the General Counsel. Effective January 25, 2006.

DEGS00510 Advance Representative to the Director, Office of Scheduling and Advance. Effective January 25, 2006.

Section 213.3337 General Services Administration

GSGS60024 Special Assistant to the Commissioner, Public Buildings Service. Effective January 24, 2006.

Section 213.3339 United States International Trade Commission

TCGS00010 Staff Assistant (Legal) to a Commissioner. Effective January 30, 2006.

Section 213.3352 Government Printing Office

GPOT00004 Public Affairs Specialist to the Deputy Chief of Staff. Effective January 20, 2006

Section 213.3353 Merit Systems Protection Board

MPGS00003 Confidential Assistant to a Board Member. Effective January 27, 2006.

Section 213.3357 National Credit Union Administration

CUOT01008 Senior Policy Advisor to a Member. Effective January 10, 2006.

CUOT09158 Director of Public and Congressional Affairs to the Chairman. Effective January 10, 2006.

Section 213.3384 Department of Housing and Urban Development

DUGS60273 Staff Assistant to the Deputy Secretary, Housing and Urban Development. Effective January 20, 2006.

Section 213.3394 Department of Transportation

DTGS60311 Special Assistant to the Director for Scheduling and Advance. Effective January 20, 2006.

Authority: 5 U.S.C. 3301 and 3302; E.O. 10577, 3 CFR 1954-1958 Comp., P.218.

Office of Personnel Management.
Linda M. Springer,
Director.

[FR Doc. E6-3224 Filed 3-7-06; 8:45 am]

BILLING CODE 6325-39-P